DEPARTMENT OF TRANSPORTATION

Maritime Administration

46 CFR Part 221

Approval Process for Transfers to Foreign Registry of U.S. Documented Vessels Over 1,000 Gross Tons

AGENCY: Maritime Administration (MARAD), DOT.

ACTION: Clarification.

SUMMARY: This document clarifies the Maritime Administration's (MARAD's) approval process in 46 CFR part 221, for requests relating to proposed transfers to foreign registry of U.S. documented vessels over 1,000 gross tons.

DATES: The applicability date of this clarification is February 14, 2011. Comments may be submitted on or before July 27, 2011.

ADDRESSES: Mail or hand deliver comments to the U.S. Department of Transportation, Dockets Management Facility, Room W12-140, 1200 New Jersey Avenue, SE., Washington, DC 20590, or submit electronically at http://www.regulations.gov or fax comments to (202) 493-2251. All comments should include the docket number that appears in the heading of this document. All comments received will be available for examination and copying at the above address from 9 a.m. to 5 p.m., E.T., Monday through Friday, except Federal holidays. Those desiring notification or receipt of comments must include a self-addressed, stamped postcard or you may print the acknowledgment page that appears after submitting comments electronically. You may review DOT's complete Privacy Act Statement in the Federal Register published on April 11, 2000 (Volume 65, Number 70, Page 19477-78), or you may visit http://dms.dot.gov.

FOR FURTHER INFORMATION CONTACT: Michaela Noble, Office of Chief Counsel, Maritime Administration, 1200 New Jersey Avenue, SE., Washington, DC 20590. Telephone: 202-366-5184; or e-mail Michaela.Noble@dot.gov. Copies of this notice may also be obtained from that office. An electronic copy of this document may be downloaded from the Federal Register's home page at: http://www.archives.gov and the Government Printing Office's database at: http://www.access.gpo.gov/nara.

SUPPLEMENTARY INFORMATION: The Maritime Administration (MARAD) is clarifying its approval process in 46 CFR Part 221 for requests relating to proposed transfers to foreign registry of U.S. documented vessels over 1000 gross tons. The approval process will require vessel owners to self-certify that the vessel(s) does not contain polychlorinated biphenyls (PCBs) in regulated quantities, and to provide notice to the Environmental Protection Agency (EPA) of the transfer request. This process shall apply to all transfer requests filed on or after February 14, 2011, except as otherwise provided herein. In addition, the requirement for vessel owner self-certification will apply to all future approvals under the provisions for granting advance foreign transfer approvals pursuant to 46 U.S.C. 56101(b), regardless of when the application is filed. Vessel owners that receive advance approval under 46 U.S.C. 56101(b) will be required to submit a self-certification conforming to the language provided below, or as may be amended by MARAD, prior to transfer of the vessel to foreign registry, otherwise the prior approval is void. Vessels built in the United States after 1985 shall be exempted from these requirements.

Self-certification must be performed by a person with legal authority to act on behalf of the company. Self-certification means a written statement containing the following language: “Under civil and criminal penalties of law for the making or submission of false or fraudulent statements or representations (18 U.S.C. 1001 and 15 U.S.C. 2615), to the best of my knowledge and belief, I hereby certify that after the exercise of reasonable due diligence, the vessel(s) do(es) not contain polychlorinated biphenyls (PCBs) in amounts greater than or equal to 50 ppm as regulated by the Toxic Substances Control Act (15 U.S.C. 2601 et seq.).” The Maritime Administration will provide the EPA with up to 30 days notice prior to approving any transfer request. Applicants are advised to account for this processing time when submitting transfer requests.

Dated: June 20, 2011.
By Order of the Maritime Administrator.
Murray A. Bloom,
Acting Secretary, Maritime Administration.

[FR Doc. 2011-15889 Filed 6-24-11; 8:45 am]

BILLING CODE 4910-81-P